DEPARTMENT OF HEALTH AND HUMAN SERVICES

National Institutes of Health

Statement of Organization, Functions, and Delegations of Authority

Part N, National Institutes of Health (NIH), of the Statement of Organization, Functions, and Delegations of Authority for the Department of Health and Human Services (40 FR 22859, May 27, 1975, as amended most recently at 66 FR 6617, January 22, 2001, and redesignated from Part HN as Part N at 60 FR 56605, November 9, 1995), is amended as set forth below to reflect organizational changes in the National Institute on Minority Health and Health Disparities (NIMHD).

Section N-B, Organization and Functions, is amended as follows: Immediately after the paragraph headed “National Institute of Minority Health and Health Disparities” (NE, formerly HNE), insert the following:

Office of the Director (OD) (NE 1 formerly HNE 1). Determines and provides leadership to the Institute's programs, plans, and policies; Provides leadership for the NIH minority health and health disparities research and activities including the implementation of the Minority Health and Health Disparities Research and Education Act (Pub. L. 106-525) and the Patient Protection and Affordable Care Act (Pub. L. 111-148) and other relevant public laws as they relate to the NIMHD mission; Directs an integrated system of coordination for the NIH health disparities research program; Directs the Institute's development and coordination of minority health and health disparities research programs, activities, and strategic partnerships with the NIH Institutes and Centers, NIH Office of the Director, Federal agencies, State, local, tribal, and regional public health agencies and private entities; Provides leadership for the NIH health disparities strategic plan and budget; Leads the management, communications, legislation, strategic planning, science policy and ethics activities for the Institute; and Provides leadership for developing and revising the national definition for health disparity population in consultation with the Agency for Healthcare Research and Quality.

Office of Extramural Research Administration (OERA) (NE 16, formerly HNE 16). Responsible for the administration of the Institute's extramural research dealing with peer review activities, grants management, extramural grants policy, and ethics issues (patient rights, animal rights, financial conflict of interest, etc.); Facilitates Institute-wide communication and coordination regarding extramural policy, planning, and analysis; Provides advice and guidance to the Director regarding the Institute's peer and objective review processes as well as NIH extramural programs, policies and procedures; Recommends mechanisms to be used or develops mechanisms to accomplish program objectives; Provides leadership to program, review, and grants management staff in writing solicitations for grants and contracts and reviews funding opportunity announcements for clearance; Develops, implements, and manages integrated policies and procedures affecting all NIMHD extramural activities, and assures appropriate training, information dissemination, and systems for NIMHD extramural staff and the extramural research community; Interprets, advises, and ensures NIMHD staff adherence to and understanding of impact of NIH and Department of Health and Human Services extramural policies; Represents the Institute as liaison for NIH Guide to Grants and Contracts and the NIH Early Notification System (ENS); and Administers the Public Health Service Guidelines on Misconduct in Science and manages the Institute's Confidentiality Certificate program and the Grant Appeals Process.

Office of Administrative Management (OAM) (NE 17, formerly HNE 17). Directs, coordinates, and conducts administrative activities of the Institute including personnel and staffing, purchase and maintenance of equipment and supplies, and acquisition and management of space; Performs analytical studies related to the administrative organization, processes and procedures of the Institute and establishes effective administrative controls; Designs and conducts management analyses, studies and surveys including manpower utilization, workload measurement, work simplification, etc., for all parts of the Institute; Develops and/or provides advice on the development and implementation of general administrative policies, procedures and guidelines throughout the Institute; Interprets, analyzes, and makes recommendations concerning delegations and re-delegations of program and administrative authorities and develops appropriate delegating documents; Supervises, directs, manages, and coordinates the planning and execution of the Institute's budget process and financial management operations, which includes providing guidance to Institute leadership and staff on budget preparation and management; Oversees the records management activities of the Institute; Coordinates the Institute's committee management functions; and Oversees and coordinates the Institute's information technology (IT) activities.

Office of Communications and Public Liaison (OCPL) (NE 18, formerly HNE 18). Serves as the focal point for the Institute's communications, public affairs, media relations, and public liaison activities; Develops and conducts a comprehensive communications program utilizing various communications vehicles to interpret, develop, test, and disseminate the programs, policies, goals and research accomplishments supported and carried out by the NIMHD to diverse audiences including the public, the media, the biomedical community, healthcare providers, and specialized groups; Develops short- and long-term communications policies, goals, objectives, and strategies in support of the mission and priorities of the Institute; Manages the Institute's Web site including content, policies, standards, guidelines, and a central Web-based resource for information and research findings on minority health and health disparities; Coordinates NIH communications activities related to minority health and health disparities in collaboration with the NIH Institutes and Centers; Coordinates and manages the Institute's intranet content; Manages correspondence control, and clearance services for the Institute; Coordinates and collaborates with other organizational components on health communications research activities.

Office of Strategic Planning, Legislation, and Scientific Policy (OSPLSP) (NE 19, formerly HNE 19). Serves as the focal point for NIMHD's science policy, strategic planning and evaluation activities; Provides leadership for the development of strategic plans, policies, goals, objectives, and techniques in support of the Institute's mission; Coordinates, develops, and implements an ongoing strategic planning process for the Institute and ensures that the Institute has a long-range, sustainable vision and program plan for carrying out its mandates; Leads the Institute's efforts to plan, coordinate, review, and evaluate research and other activities on minority health and health disparities conducted or supported by the NIH Institutes and Centers, consistent with the NIMHD's authorizing statute; Provides leadership for the development of an integrated and effective NIH health disparities strategic plan and budget consistent with the authorizing statute; Provides leadership for the legislative activities of the Institute, which includes analyzing and tracking legislation relevant to the mission of the Institute, and makes recommendations for legislative proposals; and Conducts and coordinates policy analysis related to various aspects of minority health and health disparities.

Division of Scientific Programs (DSP) (NE 3, formerly, HNE 3). Serves as the focal point for planning, directing, implementing and managing the Institute's extramural research programs, including its legislatively mandated extramural research programs and other research, research training, research capacity building, career development, and community-based participatory research initiatives; Manages a diverse portfolio of special projects with respect to minority health conditions and other populations with health disparities; and Determines program priorities and recommends funding strategies to achieve program goals.

Division of Data Management and Scientific Reporting (DDMSR) (NE 4, formerly, HNE 4). Provides leadership for knowledge management and scientific reporting; Maintains a Health Disparities Information (HDI) database to facilitate the collection, interpretation, and analysis of data, education, dissemination, and communication of information to various audiences in collaboration with other Institute organizational components; Collaborates with the NIMHD OSPLSP to analyze and synthesize data on minority health and health disparities research conducted and supported by the NIH Institutes and Centers; Coordinates reporting requests on the Institute and NIH activities on minority health and health disparities research; Provides epidemiological and statistical expertise for the Institute on planning, designing, and implementing research studies, and to support research programs; Coordinates data-collection activities and reporting on minority health and health disparities including the Institute's implementation of relevant policies, regulations, and laws; Provides advice to the Institute senior management and program officials on data collection standards and guidelines; Coordinates Institute activities under the Privacy Act; and Administers the Institute's Freedom of Information Act activities.

Division of Intramural Research (OIR) (NE 5, formerly, HNE 5). Provides leadership for the Institute's intramural research program to prevent, diagnose, treat and understand diseases and conditions that disproportionately affect health disparity populations ; Plans, develops, and conducts innovative transdisciplinary research focusing on the linkage between biological and nonbiological determinants of health in health disparity populations to include basic, behavioral, social sciences and clinical research; Develops, coordinates and implements training and career development programs in minority health and health disparities research; Collaborates with and coordinates intramural research on minority health and health disparities conducted by the NIH Institutes and Centers; Integrates new research into the Institute's program structure; and Provides advice to the Institute Director and staff on matters of scientific interest to the Institute.

Delegations of Authority Statement: All delegations and redelegations of authority to officers and employees of NIH that were in effect immediately prior to the effective date of this reorganization and are consistent with this reorganization shall continue in effect, pending further redelegation.

Dated: August 8, 2011.
Francis S. Collins,
Director, National Institutes of Health.

[FR Doc. 2011-25862 Filed 10-5-11; 8:45 am]

BILLING CODE 4140-01-P